DEPARTMENT OF VETERANS AFFAIRS

Veterans' Rural Health Advisory Committee; Notice of Meeting

The Department of Veterans Affairs (VA) gives notice under Public Law 92-463 (Federal Advisory Committee Act) that the Veterans' Rural Health Advisory Committee will conduct a telephone conference call meeting from 2 p.m. to 3:30 p.m. EDT on Monday, July 19, 2010, in Room 530 at VA Central Office, 810 Vermont Avenue, NW., Washington, DC. The toll-free number for the meeting is 1-800-767-1750, and the access code is 57165#. The meeting is open to the public.

The purpose of the Committee is to advise the Secretary of Veterans Affairs on health care issues affecting enrolled Veterans residing in rural areas. The Committee examines programs and policies that impact the provision of VA health care to enrolled Veterans residing in rural areas and discusses ways to improve and enhance VA services for these Veterans.

The Committee will discuss this year's rural health agenda and the Committee's 2009 Annual Report to the VA Secretary, which included formal recommendations on Veteran rural health care policy.

A 15-minute period will be reserved at 3:15 p.m. for public comments. Individuals who wish to address the Committee are invited to submit a 1-2 page summary of their comments for inclusion in the official meeting record. Any member of the public seeking additional information should contact Christina White, Designated Federal Officer, at rural.health.inquiry@va.gov or (202) 461-7100.

Dated: July 2, 2010.
By Direction of the Secretary.
Vivian Drake,
Acting Committee Management Officer.

[FR Doc. 2010-16648 Filed 7-7-10; 8:45 am]

BILLING CODE P